ENVIRONMENTAL PROTECTION AGENCY

[FRL-7503-3]

Proposed Settlement Agreement

AGENCY: Environmental Protection Agency (EPA).

ACTION: Notice of proposed consent order; request for public comment.

SUMMARY: In accordance with section 113(g) of the Clean Air Act, as amended, 42 U.S.C. 7413(g), notice is hereby given of a proposed consent order in American Lung Association v. Whitman, No. 1:03CV00778 (D.D.C. 2003).

This case concerns a challenge, pursuant to section 304 (a) (2) of the Act (42 U.S.C. 6704 (a) (2)), to EPA's failure to perform the mandatory duty of completing reviews of the air quality criteria and national ambient air quality standards (NAAQS) for particulate matter and for ozone, making any appropriate revisions in such criteria and standards, and proposing such new standards or revisions of standards as may be appropriate with the Act's mandate to protect public health and welfare. These duties arise under section 109(d) of the Act (42 U.S.C. 7409(d)).

The proposed consent order is between EPA and the following parties: American Lung Association, Environmental Defense Fund, Natural Resources Defense Council, Sierra Club. Alabama Environmental Council, Clean Air Council, Michigan Environmental Council, Ohio Environmental Council, and Southern Alliance for Clean Air. The proposed consent order provides that with repect to particulate matter:

• EPA will issue a Criteria Document for particulate matter no later than December 19, 2003;

• EPA will sign for publication a notice of proposed rulemaking concerning its review of the NAAQS for particulate matter no later than March 31, 2005; and

• EPA will sign for publication a notice of final rulemaking concerning its review of the NAAQS for particulate matter no later than December 20, 2005.

The proposed order provides that with respect to ozone:

• EPA will issue a Criteria Document for ozone no later than December 20, 2004;

• EPA will sign for publication a notice of proposed rulemaking concerning its review of the NAAQS for ozone no later than March 31, 2006; and

• EPA will sign for publication a notice of final rulemaking concerning its review of the NAAQS for ozone no later than December 20, 2006.

For a period of thirty (30) days following the date of publication of this notice, EPA will receive written comments relating to the settlement from persons who were not named as parties to the litigation in question. EPA or the Department of Justice may withhold or withdraw consent to the proposed settlement if the comments disclose facts or circumstances that indicate that such consent is inappropriate, improper, inadequate, or inconsistent with the requirements of the Act.

Copies of the consent order are available from Phyllis Cochran, (202) 564-5566. Written comments should be sent to Steven Silverman, Office of General Counsel (2366A), U.S. Environmental Protection Agency, 1200 Pennsylvania Avenue, NW., Washington, DC 20460, and must be submitted on or before June 26, 2003.

Dated: May 19, 2003.
Lisa K. Friedman,
Associate General Counsel.

[FR Doc. 03-13180 Filed 5-23-03; 8:45 am]

BILLING CODE 6560-60-P